DEPARTMENT OF THE INTERIOR

National Park Service

Official Trail Marker for the Ala Kahakai National Historic Trail

AGENCY: National Park Service, Interior.

ACTION: Official Insignia, Designation.

Authority: National Trails System Act, 16 U.S.C. 1241(a) and l246(c) and Protection of Official Badges, Insignia, etc. in 18 U.S.C. 701.

SUMMARY: This notice issues the official trail marker insignia of the Ala Kahakai National Historic Trail. The original graphic image was developed as part of the Trail's comprehensive management and use Plan. It first came into public use in 2009. The National Park Service official uses this insignia to mark the trail's route. This publication accomplishes the official designation of the insignia now in use by the National Park Service.

SUPPLEMENTARY INFORMATION: The primary author of this document is Aric P. Arakaki, Superintendent, Ala Kahakai National Historic Trail.

The insignia depicted below is prescribed as the official trail marker logo for the Ala Kahakai National Historic Trail, administered by the National Park Service, Ala Kahakai National Historic Trail Office, Hawai`i Island, Hawai`i. Authorization for use of this trail marker is controlled by the administrator of the Trail.

In making this prescription, notice is hereby given that whoever manufactures, sells, or possesses this insignia, or any colorable imitation thereof, or photographs or prints or in any other manner makes or executes any engraving, photograph or print, or impression in the likeness of this insignia, or any colorable imitation thereof, without written authorization from the United States Department of the Interior is subject to the penalty provisions of section 701 of Title 18 of the United States Code.

FOR FURTHER INFORMATION CONTACT: Aric P. Arakaki, Superintendent, Ala Kahakai National Historic Trail, National Park Service, 73-4786 Kanalani Street, Suite #14, Kailua-Kona, HI 96740, 808-326-6012.

Dated: February 5, 2010.
Aric P. Arakaki,
Superintendent, Ala Kahakai National Historic Trail.

[FR Doc. 2010-5514 Filed 3-12-10; 8:45 am]

BILLING CODE 4310-70-P